DEPARTMENT OF JUSTICE

Notice of Lodging Proposed Consent Decree

In accordance with Departmental Policy, 28 CFR 50.7, notice is hereby given that a proposed Consent Decree in United States v. Thomas E. Lipar, et al., Civil Action Number 4:10-cv-01904, was lodged with the United States District Court for the Southern District of Texas on January 19, 2021.

This proposed Consent Decree concerns a complaint filed by the United States against Defendants Thomas E. Lipar, LGI Land, LLC, LGI Group, LLC, and LGI Development, Inc., pursuant to Sections 301 and 404 of the Clean Water Act, 33 U.S.C. 1311 and 1344, to obtain remedies against them for violating the Clean Water Act by discharging pollutants without a permit into waters of the United States. The proposed Consent Decree resolves these allegations by requiring the Defendants to effectuate compensatory mitigation, conduct best management practices work, and be subject to other injunctive relief.

The Department of Justice will accept written comments relating to this proposed Consent Decree for thirty (30) days from the date of publication of this Notice. Please address comments to Michele Walter and Andrew Doyle, United States Department of Justice, Environment and Natural Resources Division, Environmental Defense Section, Post Office Box 7611, Washington, DC 20044, pubcomment_eds.enrd@usdoj.gov, and refer to United States v. Thomas E. Lipar, et al., DJ # 90-5-1-1-18564.

The proposed Consent Decree may be examined electronically at http://www.justice.gov/enrd/consent-decrees. In addition, the proposed Consent Decree may be examined at the Clerk's Office, United States District Court for the Southern District of Texas, 515 Rusk Street, Houston, TX 77002. However, the Clerk's Office may limit public access due to the ongoing Coronavirus/COVID-19 emergency. Please visit www.txs.uscourts.gov or call 713-250-5500 for more information.

Cherie Rogers,
Assistant Section Chief, Environmental Defense Section, Environment and Natural Resources Division.

[FR Doc. 2021-01687 Filed 1-25-21; 8:45 am]

BILLING CODE 4410-15-P